DEPARTMENT OF ENERGY

Federal Energy Regulatory Commission

[Docket No. CP24-27-000]

Kern River Gas Transmission Company; Notice of Withdrawal of Staff Protest

Federal Energy Regulatory Commission (FERC or Commission) staff hereby withdraws its February 26, 2024 protest of the prior notice request filed under the provisions of the Commission's regulations at Part 157, subpart F, by Kern River Gas Transmission Company (Kern River) on December 15, 2023, for its proposed construction and operation of the Lanes Crossing Meter Station (Project). Staff's protest noted that Kern River did not provide a copy of a finding by the California State Historic Preservation Office (SHPO) of “no historic properties” or “no historic properties effected.”

On March 6, 2024, at the request of Kern River, the California SHPO filed a letter noting its consultation with Kern River regarding the Project, and that no historic properties were identified within the area of potential effect. The SHPO stated that it did “not object to a finding of no historic properties affected.” Therefore, the application now meets the standards outlined in Appendix II of subpart F of section 157 of the Commission's regulations. This issue was resolved within 30 days of the protest as required by section 157.205(g) of the Commission's regulations. Based on the submission of the SHPO's findings for this Project, Commission staff withdraws its protest.

Dated: March 7, 2024.
Debbie-Anne A. Reese,
Acting Secretary.

[FR Doc. 2024-05328 Filed 3-12-24; 8:45 am]

BILLING CODE 6717-01-P